DEPARTMENT OF TRANSPORTATION

Federal Highway Administration

Notice of Final Federal Agency Actions on Proposed Highway Projects in Texas

AGENCY: Texas Department of Transportation (TxDOT), Federal Highway Administration (FHWA), Department of Transportation.

ACTION: Notice of limitation on claims for judicial review of actions by TxDOT and Federal agencies.

SUMMARY: This notice announces actions taken by TxDOT and Federal agencies that are final. The environmental review, consultation, and other actions required by applicable Federal environmental laws for these projects are being, or have been, carried out by TxDOT pursuant to an assignment agreement executed by FHWA and TxDOT. The actions relate to various proposed highway projects in the State of Texas. These actions grant licenses, permits, and approvals for the projects.

DATES: By this notice, TxDOT is advising the public of final agency actions subject to 23 U.S.C. 139(l)(1). A claim seeking judicial review of TxDOT and Federal agency actions on the highway projects will be barred unless the claim is filed on or before the deadline. For the projects listed below, the deadline is February 20, 2024. If the Federal law that authorizes judicial review of a claim provides a time period of less than 150 days for filing such a claim, then that shorter time period still applies.

FOR FURTHER INFORMATION CONTACT: Patrick Lee, Environmental Affairs Division, Texas Department of Transportation, 125 East 11th Street, Austin, Texas 78701; telephone: (512) 416-2358; email: Patrick.Lee@txdot.gov. TxDOT's normal business hours are 8:00 a.m.-5:00 p.m. (central time), Monday through Friday.

SUPPLEMENTARY INFORMATION: The environmental review, consultation, and other actions required by applicable Federal environmental laws for these projects are being, or have been, carried out by TxDOT pursuant to 23 U.S.C. 327 and a Memorandum of Understanding dated December 9, 2019, and executed by FHWA and TxDOT.

Notice is hereby given that TxDOT and Federal agencies have taken final agency actions by issuing licenses, permits, and approvals for the highway projects in the State of Texas that are listed below.

The actions by TxDOT and Federal agencies and the laws under which such actions were taken are described in the Categorical Exclusion (CE), Environmental Assessment (EA), or Environmental Impact Statement (EIS) issued in connection with the projects and in other key project documents. The CE, EA, or EIS and other key documents for the listed projects are available by contacting the local TxDOT office at the address or telephone number provided for each project below.

This notice applies to all TxDOT and Federal agency decisions as of the issuance date of this notice and all laws under which such actions were taken, including but not limited to:

1. General: National Environmental Policy Act (NEPA) [42 U.S.C. 4321-4351]; Federal-Aid Highway Act [23 U.S.C. 109].

2. Air: Clean Air Act [42 U.S.C. 7401-7671(q)].

3. Land: Section 4(f) of the Department of Transportation Act of 1966 [49 U.S.C. 303]; Landscaping and Scenic Enhancement (Wildflowers) [23 U.S.C. 319].

4. Wildlife: Endangered Species Act [16 U.S.C. 1531-1544 and Section 1536], Marine Mammal Protection Act [16 U.S.C. 1361], Fish and Wildlife Coordination Act [16 U.S.C. 661-667(d)], Migratory Bird Treaty Act [16 U.S.C. 703-712].

5. Historic and Cultural Resources: Section 106 of the National Historic Preservation Act of 1966, as amended [54 U.S.C. 300101 et seq.]; Archeological Resources Protection Act of 1977 [16 U.S.C. 470(aa)-11]; Archeological and Historic Preservation Act [54 U.S.C. 312501 et seq.]; Native American Grave Protection and Repatriation Act (NAGPRA) [25 U.S.C. 3001-3013].

6. Social and Economic: Civil Rights Act of 1964 [42 U.S.C. 2000(d)-2000(d)(1)]; American Indian Religious Freedom Act [42 U.S.C. 1996]; Farmland Protection Policy Act (FPPA) [7 U.S.C. 4201-4209].

7. Wetlands and Water Resources: Clean Water Act [33 U.S.C. 1251-1377] (Section 404, Section 401, Section 319); Land and Water Conservation Fund (LWCF) [16 U.S.C. 4601-4604]; Safe Drinking Water Act (SDWA) [42 U.S.C. 300(f)-300(j)(6)]; Rivers and Harbors Act of 1899 [33 U.S.C. 401-406]; Wild and Scenic Rivers Act [16 U.S.C. 1271-1287]; Emergency Wetlands Resources Act [16 U.S.C. 3921, 3931]; TEA-21 Wetlands Mitigation [23 U.S.C. 103(b)(6)(m), 133(b)(11)]; Flood Disaster Protection Act [42 U.S.C. 4001-4128].

8. Executive Orders: E.O. 11990 Protection of Wetlands; E.O. 11988 Floodplain Management; E.O. 12898 Federal Actions to Address Environmental Justice in Minority Populations and Low-Income Populations; E.O. 11593 Protection and Enhancement of Cultural Resources; E.O. 13007 Indian Sacred Sites; E.O. 13287 Preserve America; E.O. 13175 Consultation and Coordination with Indian Tribal Governments; E.O. 11514 Protection and Enhancement of Environmental Quality; E.O. 13112 Invasive Species. (Catalog of Federal Domestic Assistance Program Number 20.205, Highway Planning and Construction.)

The projects subject to this notice are:

1. FM 1103 from Rodeo Way to FM 78, Guadalupe County, Texas. The project will widen the existing two-lane divided roadway to a four-lane divided roadway with a combination of a center turn lane and medians. The project is 1.867 miles in length. The actions by TxDOT and Federal agencies and the laws under which such actions were taken are described in the Categorical Exclusion Determination issued on June 2, 2023, and other documents in the TxDOT project file. The Categorical Exclusion Determination and other documents in the TxDOT project file are available by contacting the TxDOT San Antonio District Office at 4615 NW Loop 410, San Antonio, TX 78229; telephone: (210) 615-5839.

2. US 69 South Broadway from South Town Drive South to 0.3 miles south of FM 2813, Smith County, Texas. The proposed project will provide operational improvements at the US 69 intersections with Cumberland Road, Centennial Parkway, and FM 2813/Marsh Farm Road. Operational improvements include constructing a Restricted Crossing U-turn (RCUT) intersection at FM 2813, constructing additional dedicated left-turn and right-turn lanes, and constructing and removing median breaks. A third travel lane is proposed on northbound and southbound US 69 between Cumberland Road and FM 2813/Marsh Farm Road. Shared-use paths are proposed along US 69 between Cumberland Road and FM 2813/Marsh Farm Road. A raised median is proposed from South Town Drive to Baylor Drive and from East Heritage Drive to Cumberland Road. The actions by TxDOT and Federal agencies and the laws under which such actions were taken are described in the Categorical Exclusion Determination issued on June 26, 2023, and other documents in the TxDOT project file. The Categorical Exclusion Determination and other documents in the TxDOT project file are available by contacting the TxDOT Tyler District Office at 2709 West Front Street Tyler, TX 75702; telephone: (903) 510-9100.

3. FM 2493 from SL 323 to FM 2813 (also known as Old Jacksonville Highway), Smith County, Texas. Improvements include widening the existing four-lane roadway with a continuous center left-turn lane to a six-lane urban arterial with a raised median from approximately 0.3-mile north of SL 323 to 0.2-mile south of FM 2813. Additionally, a new grade-separated interchange will be constructed at Grande Boulevard. The project also includes improvements to cross-street intersections and driveways, construction of a grade-separated interchange at State Highway (SH) 57/Grande Boulevard, the addition of a 12-foot-wide shared-use path adjacent to the southbound FM 2493 mainlanes from the northern project limits to TX-49 Loop to accommodate bicyclists and pedestrians, construction of a six-foot-wide sidewalk along the northbound FM 2493 mainlanes and southbound mainlanes south of the TX-49 Loop, connections to the existing Legacy Trail, improved signalization, and drainage improvements. The length of the project is approximately 5.6 miles. The actions by TxDOT and Federal agencies and the laws under which such actions were taken are described in the Categorical Exclusion Determination issued on July 5, 2023, and other documents in the TxDOT project file. The Categorical Exclusion Determination and other documents in the TxDOT project file are available by contacting the TxDOT Tyler District Office at 2709 West Front Street, Tyler, TX 75702; telephone: (903) 510-9100.

4. US 90A from Griggs Road to Cullen Road, Harris County, Texas. The project consists of drainage improvements including increased number of inlets, increased storage capacity of storm sewer, and a 1.58-acre detention pond. The project is approximately 0.18 miles long. The actions by TxDOT and Federal agencies and the laws under which such actions were taken are described in the Categorical Exclusion Determination issued on July 10, 2023, and other documents in the TxDOT project file. The Categorical Exclusion Determination and other documents in the TxDOT project file are available by contacting the TxDOT Houston District Office at 7600 Washington Avenue, Houston, TX 77007; telephone: (713) 802-5000.

5. US 82, Clarksville Loop from SH 37 South to FM Road 114, Red River County, Texas. From SH 37 South to FM 37 North, US 82 will be widened from two lanes to a divided four-lane roadway. From SH 37 North/US 82 interchange to Business (BU) 82, the four-lane widening of US 82 will continue. A grade-separated structure will be constructed over SH 37 North to accommodate the proposed lane addition on US 82. From BU 82 to FM 114, US 82 will extend approximately 0.37 miles eastward to FM 412. The project length is approximately 4.4 miles. There will be realignments along intersections and transitional pavement along with additional pedestrian elements on some portions of the project. The actions by TxDOT and Federal agencies and the laws under which such actions were taken are described in the Categorical Exclusion Determination issued on July 19, 2023, and other documents in the TxDOT project file. The Categorical Exclusion Determination and other documents in the TxDOT project file are available by contacting the TxDOT Paris District Office at 1365 North Main Street, Paris, TX 75640; telephone: (903)737-9300.

6. Las Vegas Trail from Quebec Drive to I-820, Tarrant County, Texas. TxDOT is proposing improvements along a 0.3-mile section of Las Vegas Trail from Quebec Drive to I-820 in White Settlement and Fort Worth, Texas. The project will also extend approximately 250 feet east along Heron Drive and 300 feet east along Shoreview Drive. The reconstruction of Las Vegas Trail will result in additional travel lanes, turns lanes at intersections, and a shared-use path. A section of the roadway will be realigned to improve the roadway geometry. The actions by TxDOT and Federal agencies and the laws under which such actions were taken are described in the Categorical Exclusion Determination issued on July 27, 2023, and other documents in the TxDOT project file. The Categorical Exclusion Determination and other documents in the TxDOT project file are available by contacting the TxDOT Fort Worth District Office at 2501 S W Loop 820 Fort Worth, TX 76133; telephone: (817) 370-6744.

7. I-35 from 0.5 mile south of the I-35/Uniroyal Dr/Beltway Parkway interchange to 3.2 miles north of the Uniroyal Interchange, Webb County, Texas. This project will realign and widen the I-35 main lanes to consist of three 12-foot-wide travel lanes in each direction with 10-foot-wide inside and outside shoulders divided by a three-foot-tall concrete traffic barrier. Throughout the project limits, the existing two-way frontage roads will be converted to one-way frontage roads and realigned within the right-of-way. These frontage roads will typically consist of two 12-foot-wide travel lanes with four-foot-wide inside and outside shoulders. At the I-35/Uniroyal/Beltway(I-35/UR/BW) Interchange, the two existing I-35 overpass bridges will be removed and a new three-span bridge will be constructed. At the I-35 underpass, the layout for Uniroyal Dr. and Beltway Pkwy will have two east and west through lanes and two dual left-turn lanes for traffic heading north onto the east frontage roads and heading south onto the west frontage roads. All lanes will consist of 12-foot-wide lanes with four-foot-wide outside shoulders, curb, gutters and six-foot-wide sidewalks. A four-foot-wide raised median will divide opposing directions of traffic. Between the bridge abutments and columns under the underpass, a 24-foot-wide turnaround lane with a four-foot outside shoulder and two-foot-wide inside shoulders will facilitate turnarounds for the frontage roads traffic. Approximately two miles north of the I-35/Uniroyal/Beltway Interchange the frontage roads will be elevated for the new proposed I-35/Hachar-Reuthinger Interchange. This Interchange will consist of elevated I-35 frontage roads with crossover bridges aligning with the proposed Hachar-Reuthinger frontage roads. In this location, the I-35 frontage roads will be widened to consist of three 12-foot-wide travel lanes with 10-foot-wide outside shoulders and four-foot-wide inside shoulders. The two proposed I-35 crossovers will each fit four 12-foot-wide lanes and a 24-foot-wide I-35 frontage roads turnaround. The actions by TxDOT and Federal agencies and the laws under which such actions were taken are described in the Categorical Exclusion Determination issued on July 28, 2023, and other documents in the TxDOT project file. The Categorical Exclusion Determination and other documents in the TxDOT project file are available by contacting the TxDOT Laredo District Office at 1817 Bob Bullock Loop, Laredo, TX 78043; telephone: (956) 712-7400.

8. Extension of NASA 1 from just south of FM 528 to approximately 0.25 mile west of I 45 at North Landing Boulevard, Harris County, Texas. The project will take place in in the cities of League City and Webster and will construct a roadway on new location consisting of four 12-foot-wide lanes (two in each direction) divided by a raised median that varies from four feet to 32 feet in width, from just south of FM 528 to approximately 0.25 mile west of I-45 at North Landing Boulevard. The project will also include a roundabout (traffic circle), a five-foot-wide sidewalk, a 10-foot-wide shared-used path, and an approximately 1.5-acre detention basin. The project is approximately 0.65 mile in length. The actions by TxDOT and Federal agencies and the laws under which such actions were taken are described in the Categorical Exclusion Determination issued on August 3, 2023, and other documents in the TxDOT project file. The Categorical Exclusion Determination and other documents in the TxDOT project file are available by contacting the TxDOT Houston District Office at 7600 Washington Avenue, Houston, TX 77007; telephone: (713) 802-5000.

9. US 90 from 0.5 mile west of the US 90/Union Pacific Railroad (UPRR) intersection to SH 146, Liberty County, Texas. The project will eliminate the UPRR at-grade crossing and construct a grade-separated overpass with US 90 over the UPRR tracks, with at-grade discontinuous frontage roads for property access and U-turns. The US 90 overpass will be a concrete beam bridge and will include four 12-foot travel lanes (two in each direction) separated by a concrete traffic barrier, 10-foot wide outside shoulders, and four-foot inside shoulders. The project length is approximately 1.0 mile. The actions by TxDOT and Federal agencies and the laws under which such actions were taken are described in the Categorical Exclusion Determination issued on August 8, 2023, and other documents in the TxDOT project file. The Categorical Exclusion Determination and other documents in the TxDOT project file are available by contacting the TxDOT Beaumont District Office at 8350 Eastex Freeway, Beaumont, TX 77708; telephone: (409) 892-7311.

10. Warriors Path Phase 2 from FM 2410 east of Knights Road to Pontotoc Trace, Bell County, Texas. Warriors Path Phase 2 will widen from an existing 22-foot-wide roadway to a 40-foot-wide roadway. The road will remain two lanes, but a continuous center turn lane will be added. Additional improvements include a curb and gutter stormwater management system and an eight-foot-wide sidewalk on the west side. The length of the project is approximately 0.42 mile. The actions by TxDOT and Federal agencies and the laws under which such actions were taken are described in the Categorical Exclusion Determination issued on August 10, 2023, and other documents in the TxDOT project file. The Categorical Exclusion Determination and other documents in the TxDOT project file are available by contacting the TxDOT Waco District Office at 100 South Loop Drive, Waco, TX 76704; telephone: (254) 867-2700.

11. IH 20 from east of FM 1208 to east of SH 349/Rankin Highway, Midland County, Texas. The project will provide operational improvements at the IH 20 interchanges with FM 1208, Business I-20, East Loop 250, County Road 1140, County Road 1150, FM 307, SH 158/SH 140/Garden City Highway, FM 715/Fairgrounds Road, and County Road 1180/Lamesa Road (nine total). Operational improvements include flipping County Road 1150 and County Road 1180/Lamesa Road so they underpass IH 20; installing a new interchange at County Road 1140; and through lanes/turn lanes at FM 1208, Business I-20, East Loop 250, County Road 1150, FM 307, SH 158/SH 140/Garden City Highway, FM 715/Fairgrounds Road, and County Road 1180/Lamesa Road. The project will also widen the IH 20 main lanes to provide an additional travel lane in each direction and convert/reconstruct the frontage roads to one-way operation (note the frontage roads between Business I-20 and County Road 1140 have already been converted to one-way operation). Additionally, the project will reconfigure the exit/entrance ramps on IH 20 at these interchanges. The total project length is approximately 12.8 miles. The actions by TxDOT and Federal agencies and the laws under which such actions were taken are described in the Categorical Exclusion Determination issued on August 23, 2023, and other documents in the TxDOT project file. The Categorical Exclusion Determination and other documents in the TxDOT project file are available by contacting the TxDOT Odessa District Office at 3901 E Highway 80, Odessa, TX 79761; telephone: (432) 498-4746.

12. US 83 from US83/84 “Y” intersection to CR 160, Taylor County, Texas. The project will widen and upgrade US 83 to five lanes consisting of two 12-foot lanes in each direction, a continuous 12-foot center turn lane, drainage improvements, and exiting turn lanes to county roads and the future site for Jim Ned High School. The actions by TxDOT and Federal agencies and the laws under which such actions were taken are described in the Categorical Exclusion Determination issued on August 31, 2023, and other documents in the TxDOT project file. The Categorical Exclusion Determination and other documents in the TxDOT project file are available by contacting the TxDOT Abilene District Office at 4250 N Clack, Abilene, TX 79601; telephone: (325) 676-6817.

13. Mykawa Road From FM 518 to Beltway 8, Harris and Brazoria Counties, Texas. The project will widen the existing Mykawa Road from a two-lane undivided roadway to a four-lane divided roadway with a 10-foot shared use path for bicycles and pedestrians, separated from vehicles, along the west side of the roadway. The project will also include storm water drainage and detention, landscaping, street lighting, modification of traffic signals, and utility relocations. The total project length is approximately 2.9 miles. The actions by TxDOT and Federal agencies and the laws under which such actions were taken are described in the Categorical Exclusion Determination issued on August 31, 2023, and other documents in the TxDOT project file. The Categorical Exclusion Determination and other documents in the TxDOT project file are available by contacting the TxDOT Houston District Office at 7600 Washington Avenue, Houston, TX 77007; telephone: (713) 802-5000.

14. Braker Lane from Dawes Place to Samsung Boulevard, Travis County, Texas. The project will construct a new location four-lane arterial roadway divided by medians from Dawes Place to Samsung Blvd. The project will also include bike lanes, sidewalks, and drainage improvements. The project is 0.75 miles in length. The actions by TxDOT and Federal agencies and the laws under which such actions were taken are described in the Final Environmental Assessment (EA), the Finding of No Significant Impact (FONSI) issued on June 14, 2023, and other documents in the TxDOT project file. The EA, FONSI and other documents in the TxDOT project file are available by contacting the TxDOT Austin District Office at 7901 North I-35, Austin, TX 78753; telephone: (512) 832-7000.

15. FM 1171 from west of FM 156 to IH 35W, Denton County, Texas. The project will construct a new location non-freeway roadway. The urbanized sections of the roadway will consist of three 12-foot-wide lanes in each direction, with a 16-foot-wide median, four-foot-wide inside shoulders, 10-foot-wide outside shoulders, a 10-foot-wide shared use path, and a six-foot-wide sidewalk. Within the rural section of the roadway, the new location non-freeway roadway will consist of two 12-foot-wide lanes (ultimate 6-lanes) in each direction, a 60-foot-wide depressed median, four-foot-wide inside shoulders, and 10-foot-wide outside shoulders for bicycle accommodation. The project is approximately 3.5 miles in length. The actions by TxDOT and Federal agencies and the laws under which such actions were taken are described in the Final Environmental Assessment (EA), the Finding of No Significant Impact (FONSI) issued on June 30, 2023, and other documents in the TxDOT project file. The EA, FONSI and other documents in the TxDOT project file are available by contacting the TxDOT Dallas District Office at 4777 E Highway 80, Mesquite, TX 75150; telephone: (214) 320-4480.

16. FM 1385 from US 380 to FM 455, Denton County, Texas. The project will include reconstructing and widening the existing two-lane rural highway to ultimately a six-lane divided urban roadway. FM 1385 from US 380 to FM 428 West will be constructed as a six-lane facility while the roadway from FM 428 West to FM 455 will be constructed as a four-lane interim facility. The majority of the project follows the existing FM 1385 roadway alignment; however, two areas are being proposed for new location roadway realignments to address mobility and safety concerns. The first 0.9-mile-long realignment is located south of Mustang Road and will directly connect FM 1385 to the north and to the south without requiring vehicles to travel along the Mustang Road portion of the existing FM 1385. The second 0.45-mile-long realignment is located southeast of the current alignment. This improvement will flatten-out the existing “S” curve at Gee Road and improve mobility at this intersection with FM 1385. The project is approximately 12.03 miles in length. The actions by TxDOT and Federal agencies and the laws under which such actions were taken are described in the Final Environmental Assessment (EA), the Finding of No Significant Impact (FONSI) issued on July 14, 2023, and other documents in the TxDOT project file. The EA, FONSI, and other documents in the TxDOT project file are available by contacting the TxDOT Dallas District Office at 4777 E Highway 80, Mesquite, TX 75150; telephone: (214) 320-4480.

17. International Bridge Trade Corridor (IBTC) from 365 Tollway and FM 493 to I-2, Hidalgo County, Texas. The project will construct a controlled access six-lane facility divided by concrete barrier with overpasses, ramps, and two-lane frontage roads in certain locations. The ultimate design will consist of six 12-foot-wide travel lanes (three in each direction), 10-foot-wide outside shoulders, and 10-foot-wide inside shoulders, divided by a concrete barrier. The project length is approximately 13.15 miles. The actions by TxDOT and Federal agencies and the laws under which such actions were taken are described in the Final Environmental Assessment (EA), the Finding of No Significant Impact (FONSI) issued on September 1, 2023, and other documents in the TxDOT project file. The EA, FONSI, and other documents in the TxDOT project file are available by contacting the TxDOT Pharr District Office 600 W Expressway 83, Pharr, TX 78577; telephone: (956) 702-6100.

Authority: 23 U.S.C. 139(l)(1).

Michael T. Leary,
Director, Planning and Program Development, Federal Highway Administration.

[FR Doc. 2023-20284 Filed 9-19-23; 8:45 am]

BILLING CODE 4910-22-P